DEPARTMENT OF DEFENSE

Department of the Air Force

Privacy Act of 1974; System of Records

AGENCY: Department of the Air Force, DoD.

ACTION: Notice to delete and amend systems of records.

SUMMARY: The Department of the Air Force is deleting four systems of records notices from its existing inventory of record systems and amending four notices subject to the Privacy Act of 1974, (5 U.S.C. 552a), as amended.

Three of the amendments are required to alert the users of these systems of records of the additional requirements of the Health Insurance Portability and Accountability Act (HIPAA) of 1996, as implemented by DoD 6025.18-R, DoD Health Information Privacy Regulation. Language being added under the ‘Routine Use’ category is as follows:

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.”

DATES: This proposed actions will be effective without further notice on June 19, 2003, unless comments are received which result in a contrary determination.

ADDRESSES: Send comments to the Air Force Privacy Act Manager, Office of the Chief Information Officer, AF-CIO/P, 1155 Air Force Pentagon, Washington, DC 20330-1155.

FOR FURTHER INFORMATION CONTACT: Mrs. Anne Rollins at (703) 601-4043.

SUPPLEMENTARY INFORMATION: The Department of the Air Force systems of records notices subject to the Privacy Act of 1974, (5 U.S.C. 552a), as amended, have been published in the Federal Register and are available from the address above.

The specific changes to the records systems being amended are set forth below followed by the notices, as amended, published in their entirety. The proposed amendments are not within the purview of subsection (r) of the Privacy Act of 1974, (5 U.S.C. 552a), as amended, which requires the submission of a new or altered system report.

Dated: May 13, 2003.
Patricia L. Toppings,
Alternate OSD Federal Register Liaison Officer, Department of Defense.

Deletions

F033 AFSG A

System Name:

High Level Inquiry File (June 11, 1997, 62 FR 31793).

Reason: Records are now being maintained under the Air Force Privacy Act system of records notice F033 AFSG B, entitled ‘Professional Inquiry Records System’.

F036 AETC C

System Name:

Air Force Reserve Officer Training Corps Qualifying Test Scoring System (June 11, 1997, 62 FR 31793).

Reason: The system of records is no longer needed. All records have been destroyed.

F036 AETC Q

System Name:

Institutional Research Analysis System (June 11, 1997, 62 FR 31793).

Reason: The system of records was never established.

F044 AFSGA

System Name:

United States Air Force Hearing Conservation Record System (June 11, 1997, 62 FR 31793).

Reason: Records are now being maintained under the Air Force Privacy Act systems of records notices F044 AF SG D, entitled ‘Automated Medical/Dental Record System” and F044 AF SG E, entitled ‘Medical Record System’.

Amendments

F044 AF SG H

System Name:

Air Force Aerospace Physiology Training Programs (June 11, 1997, 62 FR 31793).

Changes:

* * * * *

Categories of Records in the System:

Delete ‘quality performance, training flight profiles’; after ‘location of training’ add ‘Social Security Number, rank, crew position, aero rating, organization, base assigned, MAJCOM, phone number; delete ‘age, height, weight’.

Purpose(s):

After ‘trainees’ add ‘academic grade’; delete ‘performance’; delete ‘Physiological’ and add ‘Aerospace Physiology’; delete ‘Unit’; add ‘Flight’; delete ‘Coordinator’; add ‘Consultant’; delete ‘Human System Center, Data Science Division’; add ‘Air Force Research Laboratory, Biodynamic and Protection Division’; delete ‘Armstrong Laboratory’; add ‘USAF School of Aerospace Medicine, Performance Enhancement Department,’

* * * * *

Routine uses of records maintained in the system, including categories of users and the purposes of such uses:

Add to end of entry ‘Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.’

* * * * *

Storage:

Replace entry with ‘Maintained in file folders, on computers, and on computer output products.”

Safeguards:

Replace entry with ‘Records are accessed by person(s) responsible for servicing the record system in performance of their official duties and by authorized personnel who are properly screened and cleared for need-to-know. Records are stored in locked rooms and cabinets. Those in computer storage devices are protected by computer system software.’

* * * * *

Record Source Categories:

Replace entry with ‘Aerospace Physiology Training Flight (APTF)’.

* * * * *

F044 AF SG H

System Name: Air Force Aerospace Physiology Training Programs.

System Location:

Chamber Flight Records located at Human Systems Center, Data Sciences Branch, 2510 Kennedy Circle, Suite 3, Brooks Air Force Base, TX 78235-5199; Aerospace Physiology Training monthly reports at each Air Force Physiological Training Flight; Headquarters Air Force Medical Operation Agency, 110 Luke Avenue, Suite 405, Bolling Air Force Base, DC 20332-7050; Medical records at USAF School of Aerospace Medicine, Force Enhancement Department Hyperbaric Medicine Division, 2510 Kennedy Drive, Suite 117, Brooks Air Force Base, TX 78235-5119. Physiological training records at Air Force Aerospace Physiology Training Flights; individual physiological training records for non-aircrew personnel at consolidated flight record custodians at Air Force installations. Official mailing addresses are published as an appendix to the Air Force's compilation of systems of records notices. National Personnel Records Center, Military Personnel Records, 9700 Page Boulevard, St. Louis, MO 63132-5100.

Categories of Individuals Covered by the System:

All Aircrew and non-aircrew personnel required to fly on Air Force aircraft.

Categories of Records in the System:

Contains data on attendance at formal training, type of course received, Social Security Number, rank, crew position, aero rating, organization, base assigned, MAJCOM, phone number, and sex of trainees.

Authority for Maintenance of the System:

10 U.S.C. 8013, Secretary of the Air Force and Air Force Instruction 11-403, Air Force Aerospace Physiological Training Program.

Purpose(s):

Authenticate type of training, location and trainees academic grade during course. Flight profiles (altitude chamber) and any reactions occurring during flight are maintained by each Aerospace Physiology Training Flight for future authentication of training. Additional authentication is provided flight managers and scheduling officers and copies of flight profiles and reaction data are provided United States Air Force School of Aerospace Medicine for research. A compilation of select data is forwarded to appropriate Command Consultant for Physiological Training for management purposes, to United States Air Force School of Aerospace Medicine, and Air Force Research Laboratory, Biodynamic and Protection Division for analysis and research, and to the Air Force Medical Operations Agency for management and research. Data for specific reactors to low pressure are handled as medical records with additional distribution to appropriate Major Air Command Surgeon for information and possible corrective action, to USAF School of Aerospace Medicine, Performance Enhancement Department, Hyperbaric Medicine Division for research and analysis and to Headquarters Air Force Medical Operations Agency for policy/management/statistical and research analysis.

Routine Uses of Records Maintained in the System, Including Categories of Users and the Purposes of Such Uses:

In addition to those disclosures generally permitted under 5 U.S.C. 552a(b) of the Privacy Act, these records, or information contained therein, may specifically be disclosed outside the DOD as a routine use pursuant to 5 U.S.C. 552a(b)(3) as follows:

The DoD ‘Blanket Routine Uses’ published at the beginning of the Air Force's compilation of systems of records notices apply to this system.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and Practices for Storing, Retrieving, Accessing, Retaining, and Disposing of Records in the System:

Storage:

Maintained in file folders, on computers, and on computer output products.

Retrievability:

Data relative to reactors to low pressure, management analysis procedures retrieved by Social Security Number. Authentication of training filed by name.

Safeguards:

Records are accessed by commanders of medical centers and hospitals and by person(s) responsible for servicing the record system in performance of their official duties and by authorized personnel who are properly screened and cleared for need-to-know. Records are stored in locked rooms and cabinets.

Retention and Disposal:

Chamber Flight Record at United States Air Force School of Aerospace Medicine retained until entered into computer files, until superseded, obsolete, or no longer needed for reference. Physiological Training Monthly Reports at Headquarters Air Force Medical Operations Agency and 89th AMDS/SGPT, Andrews AFB are retained in secure databases no longer needed for reference. Copies at Aerospace Physiology Training Flights are retained in office files or databases until no longer needed for reference, or on inactivation. Physiological Training Record are retained until no longer needed for reference; Individual Physiological Training Records for non-flying personnel retained as a part of individual medical record until member separates from active or Reserve duty. For flying personnel, record is retained in flight records and turned over to individual upon discharge, separation, or retirement.

System Manager(s) and Address:

Commander, Air Force Medical Operations Agency, 110 Luke Avenue, Suite 405, Bolling Air Force Base, DC 20332-7050.

Notification Procedure:

Individuals seeking to determine whether this system of records contains information on themselves should address written inquiries to the Chief Aerospace Physiology, Air Force Medical Operations Agency, 110 Luke Avenue, Suite 405, Bolling Air Force Base, DC 20332-7050.

Students should provide full name, military status, approximate date and last location of training; officers and technicians assigned Air Force Aerospace Physiology Programs provide full name and location of last training.

Record Access Procedures:

Individuals seeking to access records about themselves contained in this system should address written requests to the Chief Aerospace Physiology, Air Force Medical Operations Agency, 110 Luke Avenue, Suite 405, Bolling Air Force Base, DC 20332-7050.

Students should provide full name, military status, approximate date and last location of training; officers and technicians assigned Air Force Aerospace Physiology Programs provide full name and location of last training.

Contesting Record Procedures:

The Air Force rules for accessing records and for contesting contents and appealing initial agency determinations are published in Air Force Instruction 37-132; 32 CFR part 806b; or may be obtained from the system manager.

Record Source Categories:

Aerospace Physiology Training Flight.

Exemptions Claimed for the System:

None.

F044 AF SG B

System Name:

Drug Abuse Rehabilitation Report System (June 11, 1997, 62 FR 31793).

Changes:

* * * * *

Storage:

Replace entry with ‘Maintained in file folders and on computer, and on computer output products.’

Retention and Disposal:

Add to entry ‘Computer records are destroyed by erasing, deleting, or overwriting.’

* * * * *

F044 AF SG B

System Name:

Drug Abuse Rehabilitation Report System.

System Location:

Headquarters United States Air Force and major command headquarters. Official mailing addresses are published as an appendix to the Air Force’s compilation of systems of records notices.

Categories of Individuals Covered by the System:

Any active duty military personnel who are confirmed as drug abusers as a result of drug abuse urinalysis testing. These individuals are not patients as defined in 42 U.S.C. 300s-3(6).

Categories of Records in the System:

File contains Drug Abuse Rehabilitation Reports in Electrical Message Form in which demographic data; urine testing results and abuser disposition are detailed.

Authority for Maintenance of the System:

Pub. L. 91-513 as applied to Federal agencies by Section 2b of E.O. 11599, June 17, 1971, Comprehensive Drug Abuse Prevention and Control Act of 1970.

Purpose(s):

At HQ USAF to provide statistical data for required reports to Department of Defense (DoD) and to the Special Action Office on Drug Abuse Prevention, White House; to perform epidemiological and statistical studies for use in evaluating the effectiveness of Air Force urinalysis testing programs; to provide information for answering congressional inquiries.

Routine Uses of Records Maintained in the System, Including Categories of Users and the Purposes of Such Uses:

In addition to those disclosures generally permitted under 5 U.S.C. 552a(b) of the Privacy Act, these records or information contained therein may specifically be disclosed outside the DoD as a routine use pursuant to 5 U.S.C. 552a(b)(3) as follows:

The DoD ‘Blanket Routine Uses’ published at the beginning of the Air Force's compilation of systems of records notices apply to this system.

Policies and Practices for Storing, Retrieving, Accessing, Retaining, and Disposing of Records in the System:

Storage:

Maintained in file folders and on computer, and on computer output products.

Retrievability:

Retrieved by Social Security Number.

Safeguards:

Records are accessed by custodian of the record system and are controlled by personnel screening.

Retention and Disposal:

Retained in office files for fifteen years after annual cut-off, then destroyed by tearing into pieces, shredding, pulping, macerating or burning. Computer records are destroyed by erasing, deleting, or overwriting.

System Manager(s) and Address:

The Surgeon General, Headquarters United States Air Force, 110 Luke Avenue, Room 400, Washington, DC 20332-7050.

Notification Procedure:

Individuals seeking to determine whether information about themselves is contained in this system should address written inquiries to or visit the Surgeon General, Headquarters United States Air Force, 110 Luke Avenue, Room 400, Washington, DC 20332-7050.

Record Access Procedures:

Individuals seeking access to information about themselves contained in this system should address written inquiries to or visit the Surgeon General, Headquarters United States Air Force, 110 Luke Avenue, Room 400, Washington DC 20332-7050.

Contesting Record Procedures:

The Air Force rules for accessing records, and for contesting contents and appealing initial agency determinations are published in Air Force Instruction 37-132; 32 CFR part 806b; or may be obtained from the system manager.

Record Source Categories:

Information obtained from medical institutions.

Exemptions Claimed for the System:

None.

F033 AFSG B

System Name:

Professional Inquiry Records System (June 11, 1997, 62 FR 31793).

Changes:

* * * * *

Routine Uses of Records Maintained in the System, Including Categories of Users and the Purposes of Such Uses:

Add to end of entry ‘Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.’

* * * * *

F033 AFSG B

System Name:

Professional Inquiry Records System.

System Location:

At Headquarters United States Air Force, Office of the Surgeon General, Assistant for Congressional and Public Affairs, Bolling Air Force Base, Washington, DC 20332.

Categories of Individuals Covered by the System:

Persons who have corresponded with a member of Congress, White House, or other high level federal or state executive officials concerning the professional aspects of care provided in Air Force medical facilities.

Categories of Records in the System:

File contains copies of all correspondence concerning the inquiry; substantiating documents, such as correspondence or memorandums of telephone conversations with the appropriate medical facility, draft replies, medical records and any other background data.

Authority for Maintenance of the System:

10 U.S.C. 8013, Secretary of the Air Force.

Purpose(s):

Records are used as background data for statistical presentations, and historical evidence for repeat inquiries by the same individuals. Portions of records may be loaned or copies provided to the Department of Defense activities for use as background data in evaluating inquiries.

Routine Uses of Records Maintained in the System, Including Categories of Users and the Purposes of Such Uses:

In addition to those disclosures generally permitted under 5 U.S.C. 552a(b) of the Privacy Act, these records or information contained therein may specifically be disclosed outside the DoD as a routine use pursuant to 5 U.S.C. 552a(b)(3) as follows:

The DoD ‘Blanket Routine Uses’ published at the beginning of the Air Force’s compilation of systems of records notices apply to this system.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and Practices for Storing, Retrieving, Accessing, Retaining, and Disposing of Records in the System:

Storage:

Maintained in file folders.

Retrievability:

Retrieved by name.

Safeguards:

Records are accessed by custodian of the record system and by person(s) responsible for servicing the record system in performance of their official duties. Records are protected by guards.

Retention and Disposal:

Retained in office files for two years after annual cut-off, then destroyed by tearing into pieces, shredding, pulping, macerating, or burning.

System Manager(s) and Address:

The Surgeon General, Headquarters, United States Air Force, 110 Luke Avenue, Room 400, Washington, DC 20332-7050.

Notification Procedure:

Individuals seeking to determine whether information about themselves is contained in this system should address written inquiries to or visit the Surgeon General, Headquarters, United States Air Force, 110 Luke Avenue, Room 400, Washington, DC 20332-7050.

Record Access Procedures:

Individuals seeking access to information about themselves contained in this system should address written inquiries to or visit the Surgeon General, Headquarters, United States Air Force, 110 Luke Avenue, Room 400, Washington, DC 20332-7050.

Contesting Record Procedures:

The Air Force rules for accessing records, and for contesting contents and appealing initial agency determinations are published in Air Force Instruction 37-132; 32 CFR part 806b; or may be obtained from the system manager.

Record Source Categories:

Information obtained from medical institutions and from source documents.

Exemptions Claimed for the System:

None.

F044 AF SG C

System Name:

Dental Health Records (June 11, 1997, 62 FR 31793).

Changes:

* * * * *

System Location:

Delete ‘Military’ from ‘Air Force Military Personnel Center’.

* * * * *

Routine Uses of Records Maintained in the System, Including Categories of Users and the Purposes of Such Uses:

Add to end of entry ‘Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.’

* * * * *

F044 AF SG C

System Name:

Dental Health Records.

System Location:

Air Force hospitals, medical centers and clinics; other authorized medical units serving military personnel and/or dependents. Official mailing addresses are published as an appendix to the Air Force's compilation of record systems notices. Air Force Personnel Center, Randolph Air Force Base, TX 78150; National Personnel Records Center, Military Personnel Records, 9700 Page Boulevard, St. Louis, MO 63132-5100, National Personnel Records Center, Civilian Personnel Records, 111 Winnebago Street, St. Louis, MO 63118.

Categories of Individuals Covered by the System:

Active duty and retired Air Force military personnel; Air Force Academy nominees/applicants; family members of military and retired personnel; foreign Nationals residing in the United States; American Red Cross personnel; other DOD civilian employees, Peace Corps and State Department personnel; Exchange Officers.

Categories of Records in the System:

Chronological record of all care received in military dental facilities. This is primarily a record of all treatment received on an outpatient basis with supporting documentation such as consultations, dental history, laboratory, and x-ray reports; the record also includes temporary copies of appointment slips and attendance records until entered in the record.

Authority for Maintenance of the System:

10 U.S.C. 55, Medical and Dental Care.

Purpose(s):

Chronological record of patient's dental health while authorized care in a military dental facility. Used by patient for further dental care, other uses such as insurance requests or compensation claims as specifically authorized by the patient. Used by dentist for further dental care of the patient, research, and teaching. Used by other patient care providers within the hospital for further medical/dental care of the patient, research, and teaching. Used by hospital and dental staff for evaluation of dental staff performance in the dental care rendered; dental research; teaching; hospital accreditation; preparation of statistical reports. Used by Army, Navy, Department of Veterans Affairs, Public Health Service, and other hospitals/clinics, for further dental care of the patient if currently undergoing treatment there. Record is released only upon receipt of the patient's signed authorization or a court order. Insurance companies require the patients' written consent for release. Used for establishing insurance benefits or payment of benefits. Used by other Air Force Agencies such as Central Tumor Registry, which maintains files on all patients in whom a malignancy has been diagnosed.

Routine Uses of Records Maintained in the System, Including Categories of Users and the Purposes of Such Uses:

In addition to those disclosures generally permitted under 5 U.S.C. 552a(b) of the Privacy Act, these records or information contained therein may specifically be disclosed outside the DoD as a routine use pursuant to 5 U.S.C. 552a(b)(3) as follows:

The DoD ‘Blanket Routine Uses’ published at the beginning of the Air Force's compilation of record system notices apply to this system, except as stipulated in ‘Note’ below.

Information from the inpatient or outpatient dental records of retirees and dependents may be disclosed to third party payers in accordance with 10 U.S.C. 1095 as amended by Public Law 99-272, for the purpose of collecting reasonable inpatient/outpatient hospital care costs incurred on behalf of retirees or dependents.

Records are used and reviewed by health care providers in the performance of their duties. Health care providers include military and civilian providers assigned to the medical facility where care is being provided.

Students participating in a training affiliation program with a USAF medical facility may also use and review records as part of their training program.

In addition, records may be disclosed to: (1) Officials and employees of the Department of Veterans Affairs in the performance of their official duties relating to the adjudication of veterans claims and in providing medical care to members of the Air Force. (2) Officials and employees of other departments and agencies of the Executive Branch of government upon request in the performance of their official duties relating to review of the official qualifications and medical history of applicants and employees who are covered by this record system and for the conduct of research studies. (3) Private organizations (including educational institutions) and individuals for authorized health research in the interest of the Federal government and the public. When not considered mandatory, patient identification data shall be eliminated from records used for research studies. (4) Officials and employees of the National Research Council in cooperative studies of the National History of Disease; of prognosis and of epidemiology. Each study in which the records of members and former members of the Air Force are used must be approved by the Surgeon General of the Air Force. (5) Officials and employees of local and state governments and agencies in the performance of their official duties pursuant to the laws and regulations governing local control of communicable diseases, preventive medicine and safety programs, child abuse and other public health and welfare programs. (6) Authorized surveying bodies for professional certification and accreditations. (7) The individual's organization or government agency as necessary when required by Federal statute, E.O., or by treaty.

Note: Records of identity, diagnosis, prognosis or treatment of any client/patient, irrespective of whether or when he/she ceases to be a client/patient, maintained in connection with the performance of any alcohol/drug abuse treatment function conducted, requested, or directly or indirectly assisted by any department or agency of the United States, shall, except as provided herein, be confidential and be disclosed only for the purposes and under the circumstances expressly authorized in 42 U.S.C. 290dd-2. These statutes take precedence over the Privacy Act of 1974 in regard to accessibility of such records except to the individual to whom the record pertains. The DoD ‘Blanket Routine Uses’ do not apply to these types of records.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and Practices for Storing, Retrieving, Accessing, Retaining, and Disposing of Records in the System:

Storage:

Maintained in file folders, notebooks/binders, visible file binders/cabinets, card files, on x-ray film, and as photographs.

Retrievability:

Retrieved by name and Social Security Number.

Safeguards:

Records are accessed by commanders of medical centers and hospitals, custodian of the record system and by person(s) responsible for servicing the record system in performance of their official duties and who are properly screened and cleared for need-to-know. Records are stored in locked cabinets or rooms, protected by guards, and controlled by personnel screening.

Retention and Disposal:

Records for military personnel are retained for 50 years after date of last document; for all others, 25 years. While on active duty, the Health Record of a U.S. military member is maintained at the dental unit at which the person receives treatment. On separation/retirement the records are forwarded to National Personnel Records Center (NPRC/MPR) or other designated depository; such as Air Reserve Personnel Center, if reservist; to appropriate state National Guard unit, if National Guard member, to appropriate Department of Veterans Affairs Regional Office, if VA claim has been filed. Records of other personnel may be hand carried or mailed to the next military medical facility at which treatment will be received, or the records are retained at the treating facility for a minimum of 1 year after date of last treatment then retired to NPRC or other designated depository, such as but not limited to, Commandant (G-PO) U.S. Coast Guard, Washington DC 20593 for Coast Guard active duty members; Medical Director, American Red Cross, Washington DC 20006 for Red Cross Personnel.

System Manager(s) and Address:

The Surgeon General, Headquarters United States Air Force. Assistant Surgeon General for Dental Services USAF; commanders of medical centers, hospitals, clinics, and medical aid stations. Official mailing addresses are published as an appendix to the Air Force's compilation of record systems notices.

Notification Procedure:

Individuals seeking to determine whether this system of records contains information on them should address inquiries to or visit the system manager giving complete name, social security number of individual through whom eligibility for care is established, year in which treatment was received, location treatment was received, whether treatment was on an inpatient or outpatient basis.

Record Access Procedures:

Individuals seeking to access records about themselves contained in this system should address requests to the system manager. An appropriately signed authorization for the release of information is required with complete name and Social Security Number of individual through whom eligibility for care was established.

Contesting Record Procedures:

The Air Force rules for accessing records, and for contesting contents and appealing initial agency determinations are published in Air Force Instruction 37-132; 32 CFR part 806b; or may be obtained from the system manager.

Record Source Categories:

Information obtained from patient and other medical institutions.

Exemptions Claimed for the System:

None.

[FR Doc. 03-12508 Filed 5-19-03; 8:45 am]

BILLING CODE 5000-08-P